ENVIRONMENTAL PROTECTION AGENCY

[FRL-7140-1]

Investigator Initiated Grants: Request for Applications

AGENCY: Environmental Protection Agency.

ACTION: Notice of requests for applications.

SUMMARY: This notice provides information on the availability of fiscal year 2002 investigator initiated grants program announcements, in which the areas of research interest, eligibility and submission requirements, evaluation criteria, and implementation schedules are set forth. Grants will be competitively awarded following peer review.

DATES: Receipt dates vary depending on the specific research areas within the solicitations.

SUPPLEMENTARY INFORMATION: In its Requests for Applications (RFA) the U.S. Environmental Protection Agency invites research applications in the following areas of special interest to its mission: (1) Biomarkers for the Assessment of Exposure and Toxicity in Children, (2) Lifestyle and Cultural Practices of Tribal Populations and Risks from Toxic Substances in the Environment, (3) Developing Regional-Scale Stressor-Response Models for Use in Environmental Decision-making, (4) Superfund Minority Institutions Program Hazardous Substance Research, (5) Airborne Particulate Matter Health Effects: Cardiovascular Mechanisms, (6) Valuation of Environmental Impacts on Children's Health, and (7) Environmental Futures Research in Nanoscale Science, Engineering and Technology.

Contacts: (1) Biomarkers for the Assessment of Exposure and Toxicity in Children: Kacee Deener, (202) 564-8289, Deener.kathleen@EPA.gov; (2) Lifestyle and Cultural Practices of Tribal Populations and Risks from Toxic Substances in the Environment: Nigel Fields, 228-688-1981, Fields.Nigel@EPA.gov; (3) Developing Regional-Scale Stressor-Response Models for Use in Environmental Decision-making: Barbara Levinson, 202-564-6911, Levinson.Barbara@EPA.gov; (4) Superfund Minority Institutions Program Hazardous Substance Research, Nora Savage, 202-564-8228, Savage.Nora@EPA.gov; (5) Airborne Particulate Matter Health Effects: Cardiovascular Mechanisms: Katz.Stacey, 202-564-8201, Katz.Stacey@EPA.gov; (6) Valuation of Environmental Impacts on Children's Health: Matthew Clark, 202-564-6842, Clark.MAtthew@EPA.gov; and (7) Environmental Futures Research in Nanoscale Science, Engineering and Technology: Barbara Karn, 202-564-6824, Karn.Barbara@EPA.gov.

FOR FURTHER INFORMATION CONTACT: The complete program announcement can be accessed on the Internet at http://www.epa.gov/ncerqa, under “announcements.” The required forms for applications with instructions are accessible on the Internet at http://es.epa.gov/ncerqa/rfa/forms/downlf.html. Forms may be printed from this site.

Dated: February 6, 2002.
Approved for publication.
Peter W. Preuss,
Director, National Center for Environmental Research.

[FR Doc. 02-3189 Filed 2-8-02; 8:45 am]

BILLING CODE 6560-50-P